DEPARTMENT OF COMMERCE

National Oceanic and Atmospheric Administration

Agency Information Collection Activities; Submission to the Office of Management and Budget (OMB) for Review and Approval; Comment Request; Alaska License Limitation Program for Groundfish, Crab, and Scallops

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 3, 2020 (85 FR 54999), during a 60-day comment period. This notice allows for an additional 30 days for public comments.

Agency: National Oceanic and Atmospheric Administration (NOAA).

Title: Alaska License Limitation Program for Groundfish, Crab, and Scallops.

OMB Control Number: 0648-0334.

Form Number(s): None.

Type of Request: Regular submission, extension of a current information collection.

Number of Respondents: 105.

Average Hours per Response: 1 hour each for Application for Transfer License Limitation Program Groundfish/Crab License and Application for Transfer of Scallop LLP License; 4 hours for transfer appeals.

Total Annual Burden Hours: 56 hours.

Needs and Uses: The National Marine Fisheries Service (NMFS), Alaska Regional Office, is requesting renewal of the currently approved information collection for the Alaska License Limitation Program (LLP) for Groundfish, Crab, and Scallops.

The License Limitation Program (LLP) restricts access to the commercial groundfish, crab, and scallop fisheries in the exclusive economic zone off Alaska, except for certain areas where alternative programs exist. The intended effect of the LLP is to limit the number of participants and reduce fishing capacity in fisheries off Alaska. More information on the LLP can be found on the NMFS Alaska Region website and at 50 CFR 692, 679.4(g) and (k), and 679.7(i).

An LLP license is required for vessels participating in directed fishing for LLP groundfish species in the Bering Sea and Aleutian Islands (BSAI) or Gulf of Alaska (GOA), or fishing in any BSAI LLP crab fisheries. An LLP license is also required for any vessel deployed in scallop fisheries in Federal waters off Alaska (except for some diving operations).

Vessels participating in directed fishing for LLP groundfish species in the GOA or BSAI, or fishing in any BSAI LLP crab fisheries, must be named on a valid copy of the LLP license that is on board the vessel, with some exceptions. An LLP groundfish or crab license authorizes the license holder to deploy the vessel in fisheries in accordance with the specific area and species endorsements, the vessel and gear designations, the maximum length overall (MLOA) specified on the license, and any exemption from the MLOA specified on the license.

An LLP scallop license authorizes the person named on the license to catch and retain scallops in compliance with State of Alaska regulations using a vessel that does not exceed the MLOA specified on the license and the gear designation specified on the license. Unlike the LLP groundfish license, the scallop license is not vessel specific. A valid copy of the LLP scallop license must be on board the vessel.

The LLP originally collected basic information so that NMFS could determine which owners of vessels were issued LLP licenses. To receive an LLP license, an eligible applicant needed to apply during the application periods established when the program was implemented. As the application periods and selection process for the LLP licenses have ended, an LLP license may now only be obtained through transfer.

This information collection collects information necessary for transfer of LLP licenses for groundfish, crabs, and scallops. This collection contains the two applications used for those transfers and the transfer appeals process.

An LLP license holder uses a transfer application to transfer an LLP license to a person who meets the eligibility requirements. The transfer applications collect information on the transferor, the transferee, and the LLP license to be transferred. The groundfish and crab transfer application also collects information on the rockfish quota share to be transferred, the vessel currently named on the LLP license, the vessel to be named on the LLP license, and ownership interest and transaction data.

Affected Public: Individuals or households; Business or other for-profit organizations.

Frequency: On occasion.

Respondent's Obligation: Required to Obtain or Retain Benefits.

Legal Authority: Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0334.

Sheleen Dumas,
Department PRA Clearance Officer, Office of the Chief Information Officer, Commerce Department.

[FR Doc. 2020-28173 Filed 12-21-20; 8:45 am]

BILLING CODE 3510-22-P